DEPARTMENT OF COMMERCE

Foreign-Trade Zones Board

[Docket 38-2003]

Foreign-Trade Zone 39—Dallas/Fort Worth, Application for Subzone, American Eurocopter LLC (Helicopter Parts), Grand Prairie, TX

An application has been submitted to the Foreign-Trade Zones Board (the Board) by the Dallas/Fort Worth International Airport Board, grantee of FTZ 39, requesting special-purpose subzone status for the warehousing and distribution facilities of American Eurocopter LLC (AE LLC), located in Grand Prairie, Texas. The application was submitted pursuant to the provisions of the Foreign-Trade Zones Act, as amended (19 U.S.C 81a-81u), and the regulations of the Board (15 CFR part 400). It was formally filed on August 4, 2003.

AE LLC's facility is comprised of one site (40.17 acres, 303 employees), located at 2701 Forum Drive in the City of Grand Prairie, Texas.

The facility distributes, repairs and services helicopter parts. The products are distributed in the U.S. and worldwide. (About 10 percent are exported). No authority is being sought for activity conducted under FTZ procedures that would result in a change in tariff classification.

Zone procedures would exempt AE LLC from Customs duty payments on foreign products that are reexported. On its domestic sales, the company would be able to defer duty payments until merchandise is shipped from its facility. The application indicates that the savings from zone procedures would help improve the facilities' international competitiveness.

In accordance with the Board's regulations, a member of the FTZ staff has been designated examiner to investigate the application and report to the Board.

Public comment is invited from interested parties. Submissions (original and 3 copies) shall be addressed to the Board's Executive Secretary at one of the following addresses:

1. Submission Via Express/Package Delivery Services: Foreign-Trade Zones Board, U.S. Department of Commerce, Franklin Court Building—Suite 4100W, 1099 14th St., NW., Washington, DC 20005; or

2. Submissions Via the U.S. Postage Service: Foreign-Trade Zones Board, U.S. Department of Commerce, FCB—Suite 4100W, 1401 Constitution Ave., NW., Washington, DC 20230.

The closing period for their receipt is October 10, 2003 Rebuttal comments in response to material submitted during the foregoing period may be submitted during the subsequent 15-day period (to October 27, 2003).

A copy of the application and accompanying exhibits will be available for public inspection at the Office of the Foreign-Trade Zones Board's Executive Secretary at address Number 1 listed above, and the U.S. Department of Commerce Export Assistance Center, 711 Houston St., Fort Worth, Texas, 76102.

Dated: August 4, 2003.
Dennis Puccinelli,
Executive Secretary.

[FR Doc. 03-20422 Filed 8-8-03; 8:45 am]

BILLING CODE 3510-DS-P